Title 3—

The President

Proclamation 9385 of December 31, 2015

National Mentoring Month, 2016

By the President of the United States of America

A Proclamation

At the heart of America's promise is the belief that we all do better when everyone has a fair shot at reaching for their dreams. Throughout our Nation's history, Americans of every background have worked to uphold this ideal, joining together in common purpose to serve as mentors and lift up our country's youth. During National Mentoring Month, we honor all those who continuously strive to provide young people with the resources and support they need and deserve, and we recommit to building a society in which all mentors and mentees can thrive in mutual learning relationships.

By sharing their own stories and offering guidance and advice, mentors can instill a sense of infinite possibility in the hearts and minds of their mentees, demonstrating that with hard work and passion, nothing is beyond their potential. Whether simply offering a compassionate ear or actively teaching and inspiring curiosity, mentors can play pivotal roles in young peoples' lives. When given a chance to use their talents and abilities to engage in their communities and contribute to our world, our Nation's youth rise to the challenge. They make significant impacts in their communities and shape a brighter future for coming generations.

My Administration is committed to fostering opportunities for mentorship—because when our children have strong, positive role models to look up to, they grow up to be good neighbors and good fellow citizens. Through the My Brother's Keeper initiative, we are working with local governments, businesses, and charitable organizations across our country to connect more of our youth to effective mentoring programs and support networks to reinforce the fact that all young people are valued and to empower them with the skills they need to reach their full potential. We have achieved the highest high school graduation rate on record—82 percent—and we remain focused on setting high standards that will help our students graduate ready for college and careers. In addition, we are supporting job-driven training initiatives like apprenticeships so our doers and dreamers can earn and learn at the same time. And through First Lady Michelle Obama's Reach Higher initiative, we are working to ensure every student has the opportunity to pursue their education and life goals.

Every young person can benefit from having a mentor, and all people carry unique ideas and experiences they can employ as a mentor. I encourage all Americans to visit www.Serve.gov/Mentor to learn more about opportunities to make a lasting difference in the lives of our youth. This month, let us pledge our support for our Nation's young people, and let us honor those who give of themselves to uplift our next generation. Working together, we can provide every child with the tools, guidance, and confidence they need to flourish and succeed.

NOW, THEREFORE, I, BARACK OBAMA, President of the United States of America, by virtue of the authority vested in me by the Constitution and the laws of the United States, do hereby proclaim January 2016 as National Mentoring Month. I call upon public officials, business and community leaders, educators, and Americans across the country to observe this month with appropriate ceremonies, activities, and programs.

IN WITNESS WHEREOF, I have hereunto set my hand this thirty-first day of December, in the year of our Lord two thousand fifteen, and of the Independence of the United States of America the two hundred and fortieth.

[FR Doc. 2016-00114

Filed 1-5-16; 11:15 am]

Billing code 3295-F6-P